DEPARTMENT OF HOMELAND SECURITY

Coast Guard

33 CFR Part 117

[Docket No. USCG-2017-0687]

Drawbridge Operation Regulation; St. Croix River, Stillwater, MN

AGENCY: Coast Guard, DHS.

ACTION: Notice of temporary deviation from drawbridge regulations; request for comments.

SUMMARY: The Coast Guard has issued a deviation from the operating schedule that governs the Stillwater Highway Bridge across the St. Croix River, mile 23.4, at Stillwater, Minnesota. This deviation will test a change to the drawbridge operation schedule to determine whether a permanent change to the schedule is needed.

DATES: This deviation is effective without actual notice from August 30, 2017 through 11:59 p.m. October 15, 2017. For the purposes of enforcement, actual notice will be used from 8 a.m. on August 25, 2017, until August 30, 2017.

Comments and related material must reach the Coast Guard on or before November 28, 2017.

ADDRESSES: You may submit comments identified by docket number USCG-2017-0687 using Federal eRulemaking Portal at http://www.regulations.gov.

See the “Public Participation and Request for Comments” portion of the SUPPLEMENTARY INFORMATION section below for instructions on submitting comments.

FOR FURTHER INFORMATION CONTACT: If you have questions on this test deviation, call or email Eric A. Washburn, Bridge Administrator, Western Rivers, Coast Guard; telephone 314-269-2378, email Eric.Washburn@uscg.mil.

SUPPLEMENTARY INFORMATION: The Stillwater Highway Bridge, across the St. Croix River, mile 23.4, at Stillwater, Minnesota, has been modified in its use from motorized vehicle traffic to pedestrian and bicycle use only. The existing operation schedule of the bridge is no longer necessary as it had been created solely to reduce the impact of drawspan openings on motorized vehicle traffic. This test deviation requires the bridge to open daily, every 30 minutes from 8 a.m. until midnight, and upon two hours notice from midnight until 8 a.m. This test deviation is effective from 8 a.m. on August 25, 2017 through 11:59 p.m. on October 15, 2017.

The Stillwater Highway Bridge currently operates in accordance with 33 CFR 117.667(b).

The Stillwater Highway Bridge provides a vertical clearance of 10.9 feet above normal pool in the closed-to-navigation position. Navigation on the waterway consists primarily of commercial sightseeing/dinner cruise boats and recreational watercraft and will not be significantly impacted.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided.

Documents mentioned in this notice as being available in this docket and all public comments, will be in our online docket at http://www.regulations.gov and can be viewed by following that Web site's instructions. Additionally, if you go to the online docket and sign up for email alerts, you will be notified when comments are posted or a final rule is published.

Dated: August 25, 2017.
Eric A. Washburn,
Bridge Administrator, Western Rivers.

[FR Doc. 2017-18443 Filed 8-29-17; 8:45 am]

BILLING CODE 9110-04-P